DEPARTMENT OF ENERGY

Agency Information Collection Extension

AGENCY: Department of Energy.

ACTION: Notice and request for comments.

SUMMARY: The Department of Energy (DOE), pursuant to the Paperwork Reduction Act of 1995), is seeking comment on a proposed three-year extension with the Office of Management and Budget (OMB) of an information collection package concerning litigation and other legal expenses incurred by its site and facility management contractors. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 11, 2004. If you anticipate difficulty in submitting comments within that period, contact the person listed below as soon as possible.

ADDRESSES: Written comments may be sent to Anne Broker, GC-12, U.S. Department of Energy, Office of Dispute Resolution, 1000 Independence Avenue, SW., Washington, DC 20585 or by fax at 202-586-0325 or by e-mail at anne.broker@hq.doe.gov and to Susan L. Frey, Director, Records Management Division, IM-11/Germantown Bldg., Office of the Chief Information Officer, U.S. Department of Energy, 1000 Independence Ave., SW., Washington, DC 20585-1290, or by fax at 301-903-9061 or by e-mail at susan.frey@hq.doe.gov.

FOR FURTHER INFORMATION CONTACT: Requests for additional information or copies of the information collection instrument and instructions should be directed to Anne Broker at 202-586-5060 (anne.broker@hq.doe.gov).

SUPPLEMENTARY INFORMATION: This package contains: (1) OMB No. 1910-5115; (2) Package Title: Contractor Legal Management Requirements; (3) Type of Review: Renewal; (4) Purpose: The collection of this information continues to be necessary to provide a basis for DOE decisions on requests, from applicable contractors, for reimbursement of litigation and other legal expenses.; (5) Respondents: 36; (6) Estimated Number of Burden Hours: The burden hours for this collection are estimated to be approximately 465 to 570 hours on an annual basis. This estimate is based on the estimate that preparation of the initial plan is 15-30 hours and that no more than 20% of the 36 contractors will need to submit a legal management plan in any given year. The estimate for the total also includes an estimate of the approximately 10 hours for an annual budgetary update, which would be submitted by all contractors.

Statutory Authority: These requirements are promulgated under authority in section 161 of the Atomic Energy Act of 1954, 42 U.S.C. 2201; the Department of Energy Organization Act, 42 U.S.C. 7101, et seq.; and the National Nuclear Security Administration Act, 50 U.S.C. 2401, et seq.

Issued in Washington, DC on March 4, 2004.
Susan L. Frey,
Director, Records Management Division, Office of the Chief Information Officer.

[FR Doc. 04-5640 Filed 3-11-04; 8:45 am]

BILLING CODE 6450-01-P